DEPARTMENT OF COMMERCE

National Oceanic and Atmospheric Administration

RIN 0648-XX98

Marine Mammals; File No. 14352

AGENCY: National Marine Fisheries Service (NMFS), National Oceanic and Atmospheric Administration (NOAA), Commerce.

ACTION: Notice; receipt of application for amendment.

SUMMARY: Notice is hereby given that Dr. Gregory Bossart, Georgia Aquarium, 225 Baker Street, NW, Atlanta, Georgia 30313, has applied for an amendment to Scientific Research Permit No. 14352.

DATES: Written, telefaxed, or e-mail comments must be received on or before September 7, 2010.

ADDRESSES: The application and related documents are available for review upon written request or by appointment in the following office(s):

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Carrie Hubard or Kristy Beard, (301) 713-2289.

SUPPLEMENTARY INFORMATION: The subject amendment to Permit No. 14352 is requested under the authority of the Marine Mammal Protection Act of 1972, as amended (16 U.S.C. 1361 et seq.) and the regulations governing the taking and importing of marine mammals (50 CFR part 216).

Permit No. 14352, issued on October 15, 2009, authorizes the permit holder to capture and release bottlenose dolphins (Tursiops truncatus) for health assessment purposes in the Indian River Lagoon (IRL), Florida. Captured dolphins receive a complete clinical workup including: measurements, weight, photographs, sample collection, freeze brand, and ultrasound. The holder is requesting the permit be amended to include a second study area in the vicinity of Charleston, South Carolina. Fifty bottlenose dolphins would be captured, sampled, and released annually. Females with calves less than one year old would not be captured. Captured dolphins would receive the same clinical workup as is authorized in the IRL. All captured animals would receive a roto tag. Up to ten animals per year would also receive a VHF tag. An experienced veterinarian would be on site during captures and the dolphins' vital signs would be closely monitored. Processing would take about forty minutes. Individual dolphins would only be sampled once per year. Samples would be analyzed to examine a variety of health topics such as: infectious diseases, immune status, contaminant exposure, antibiotic resistance, and genetics. An additional 400 dolphins per year may be harassed during pre- and post-capture surveys. The objectives of the new study area are the same as the IRL project and having two study areas will allow comparisons between dolphin populations. The amended permit would be valid until October 31, 2014.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 2, 2010.
P. Michael Payne,
Chief, Permits, Conservation and Education Division, Office of Protected Resources, National Marine Fisheries Service.

[FR Doc. 2010-19469 Filed 8-5-10; 8:45 am]

BILLING CODE 3510-22-S